COMMISSION ON CIVIL RIGHTS

Notice of Public Meeting of the New York Advisory Committee to the U.S. Commission on Civil Rights

AGENCY: U.S. Commission on Civil Rights.

ACTION: Notice of virtual business meeting.

SUMMARY: Notice is hereby given, pursuant to the provisions of the rules and regulations of the U.S. Commission on Civil Rights (Commission) and the Federal Advisory Committee Act, that the New York Advisory Committee (Committee) will hold a virtual business meeting via Zoom at 1 p.m. ET on Friday, October 21, 2022, for the purpose of discussing their project on the child welfare system in New York.

DATES: The meeting will take place from 1 p.m.-2:30 p.m. ET on Friday, October 21, 2022.

Link to Join (Audio/Video): https://tinyurl.com/tep964rz.

Telephone (Audio Only): Dial (833) 435-1820 USA Toll Free; Meeting ID: 161 982 8516

FOR FURTHER INFORMATION CONTACT: Mallory Trachtenberg, DFO, at mtrachtenberg@usccr.gov or (202) 809-9618.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at (800) 877-8339 and providing the Service with the conference details found through registering at the web link above. To request additional accommodations, please email Liliana Schiller lschiller@usccr.gov at least ten (10) days prior to the meeting.

Members of the public are also entitled to submit written comments; the comments must be received within 30 days following the meeting. Written comments may be emailed to lschiller@usccr.gov. Persons who desire additional information may contact the Regional Programs Coordination Unit at (312) 353-8311.

Records generated from this meeting may be inspected and reproduced at the Regional Programs Coordination Unit, as they become available, both before and after the meeting. Records of the meeting will be available via www.facadatabase.gov under the Commission on Civil Rights, New York Advisory Committee link. Persons interested in the work of this Committee are directed to the Commission's website, http://www.usccr.gov, or may contact the Regional Programs Coordination Unit at the above phone number.

Agenda

I. Welcome and Roll Call

II. Approval of Minutes

III. Project Discussion

IV. Public Comment

V. Next Steps

VI. Adjournment

Dated: September 9, 2022.
David Mussatt,
Supervisory Chief, Regional Programs Unit.

[FR Doc. 2022-19911 Filed 9-14-22; 8:45 am]

BILLING CODE P